DEPARTMENT OF TRANSPORTATION

Federal Aviation Administration

14 CFR Part 39

[Docket No. FAA-2004-19863; Directorate Identifier 2003-NM-29-AD]

RIN 2120-AA64

Airworthiness Directives; Airbus Model A319-100, A320-200, and A321-100 and -200 Series Airplanes

AGENCY: Federal Aviation Administration (FAA), Department of Transportation (DOT).

ACTION: Supplemental notice of proposed rulemaking (NPRM); reopening of comment period.

SUMMARY: The FAA is revising an earlier NPRM for an airworthiness directive (AD) that applies to certain Airbus Model A319-100, A320-200, and A321-100 and -200 series airplanes. The original NPRM would have superseded an existing AD that currently requires modification of the telescopic girt bar of the escape slide/raft assembly, and follow-on actions. The original NPRM proposed to mandate a new modification of the telescopic girt bar, which would terminate the repetitive functional tests required by the existing AD. The original NPRM also proposed to expand the applicability of the existing AD. The original NPRM was prompted by development of a new, improved modification. This new action would revise the original NPRM by proposing to mandate the installation of placards on the modified girt bars, and reduce the compliance time. We are proposing this supplemental NPRM to prevent failure of the escape slide/raft to deploy correctly, which could result in the slide being unusable during an emergency evacuation and consequent injury to passengers or airplane crewmembers.

DATES: We must receive comments on this supplemental NPRM by August 15, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2004-19863; the directorate identifier for this docket is 2003-NM-29-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposal. Send your comments to an address listed under ADDRESSES. Include “Docket No. FAA-2004-19863; Directorate Identifier 2003-NM-29-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in ADDRESSES. Comments will be available in the AD docket shortly after the Docket Management System (DMS) receives them.

Discussion

We proposed to amend part 39 of the Federal Aviation Regulations (14 CFR part 39) with a notice of proposed rulemaking (NPRM) for an AD (the “original NPRM”) for certain Airbus Model A319, A320, and A321 series airplanes. The original NPRM proposed to supersede AD 2001-16-14, amendment 39-12383 (66 FR 42939, August 16, 2001), which applies to certain Airbus Model A319, A320, and A321 series airplanes. The original NPRM was published in the Federal Register on December 16, 2004 (69 FR 75273). The original NPRM proposed to retain the requirements of the existing AD and mandate a new modification of the telescopic girt bar, which would terminate the repetitive functional tests of the existing AD. The original NPRM also proposed to expand the applicability of the existing AD. The original NPRM was prompted by development of a new, improved modification.

Comments

We have considered the following comments on the original NPRM.

Request To Add Revised Service Information

One commenter concurs with the content of the original NPRM and asks that Airbus Service Bulletins A320-52-1112, Revision 03, dated June 27, 2003; and Revision 04, dated November 12, 2003; be added as additional sources of service information for accomplishing the new modification. Revision 02 of the service bulletin was referenced in the original NPRM as the appropriate source of service information for accomplishing the modification of the telescopic girt bar of the escape slide/raft assembly. The commenter notes that Revisions 03 and 04 of the service bulletin did not change the content of Revision 02 of the service bulletin, and should be allowed as an alternative method of compliance.

Another commenter asks that Revision 05 of the referenced service bulletin, dated June 25, 2004, be added to the original NPRM as the source of service information for accomplishing the existing and new requirements. The commenter notes that Revision 05 adds procedures for the installation of a sticker (placard) on each of the four girt bars. That installation was omitted in the procedures specified in previous issues of the service bulletin. The commenter adds that the purpose of the stickers is to provide positive visual indication of girt bar engagement in the armed mode, and the Direction Generale de l'Aviation Civile (DGAC), which is the airworthiness authority for France, is in the process of issuing a new airworthiness directive to require installation of those stickers.

We agree with the commenters. Airbus has issued, and we have reviewed, Service Bulletins A320-52-1112, Revision 03, dated June 27, 2003; Revision 04, dated November 12, 2003; and Revision 05, dated June 25, 2004. No more work is necessary if Revisions 03 and 04 are used, as they are essentially the same as Revision 02 of the service bulletin. Revision 05 adds procedures for installing placards on the modified telescopic girt bars of the escape slide/raft assembly.

The DGAC mandated compliance with Revision 05 of the service bulletin and issued French airworthiness directive F-2005-057, dated April 13, 2005, to ensure the continued airworthiness of these airplanes in France.

We agree that the placards are needed to provide positive visual indication of girt bar engagement in the armed mode. Therefore, we have changed paragraph (g) of this supplemental NPRM to add paragraphs (g)(1) and (g)(2), which specify modifying the telescopic girt bars and installing placards on the modified girt bars using Revision 05 of the service bulletin to accomplish those actions. In addition, we have added Revisions 03 and 04 to paragraph (i) of this supplemental NPRM to give credit for previous accomplishment of the modification of the telescopic girt bar of the escape slide/raft assembly.

Request for Excluding Installation of Placards

One commenter asks that the installation of placards recommended in Revision 05 of the referenced service bulletin be excluded from the requirements of the original NPRM. The commenter states that Revision 05 added procedures for installing a “dot” placard to the modified girt bar, for identification. The commenter notes that this placard seems to be self-sticking with adhesive, and does not change the part number of the modified girt bar. The commenter adds that the placard will eventually come off and cause compliance issues in the future, even though there are currently no such reports from Airbus. The commenter also asks that references up to and including Revision 05 of the service bulletin be added to the original NPRM as acceptable sources for the instructions for the modification, with the exception of the placard installation.

We do not agree with the commenter's request. We have determined that installation of the placards, as identified in Revision 05 of the service bulletin and required by French airworthiness directive F-2005-057, is necessary and the placards should be maintained as part of normal airplane maintenance. As stated previously, the purpose of the stickers is to provide positive visual indication of girt bar engagement in the armed mode. This visual indication will ensure continued safe flight of the airplane. No change is made to the supplemental NPRM in this regard.

Request To Reduce Compliance Time

The same commenter asks (as a follow-on to its previous request) that we reduce the compliance time for the modification specified in paragraph (g) of the original NPRM to “not later than December 31, 2006,” as originally required by French airworthiness directive 2002-637(B), dated December 24, 2002. The commenter disagrees with the compliance time of 48 months that was specified in the original NPRM. The commenter states that, although the DGAC imposed a similar compliance schedule when the French airworthiness directive was issued 2 years ago (requiring compliance by December 31, 2006), the modification was developed several years ago and is immediately available for implementation on U.S. carriers. The commenter sees no reason to prolong the implementation simply because the original NPRM was not issued at the same time as the French airworthiness directive.

We agree with the intent of the commenter's remarks. However, we express compliance times based on calendar dates (e.g., “not later than December 31, 2006”) only when engineering analysis establishes a direct relationship between the date and the compliance time. In this case, no direct relationship exists. The compliance time, December 31, 2006, for the subject modification specified in the French airworthiness directive corresponds to 20 months after the effective date of the original issue of French airworthiness directive F-2005-057, dated April 13, 2005. Thus, the compliance time of 20 months after the effective date of this AD for the modification is consistent with the compliance time specified in the French airworthiness directive. We have changed the compliance time specified in paragraph (g) of this supplemental NPRM accordingly.

Explanation of Change to Applicability

We have revised the applicability of the original NPRM to identify model designations as published in the most recent type certificate data sheet for the affected models.

FAA's Determination and Proposed Requirements of the Supplemental NPRM

The changes discussed above expand the scope of the original NPRM; therefore, we have determined that it is necessary to reopen the comment period to provide additional opportunity for public comment on this supplemental NPRM.

Costs of Compliance

This proposed AD would affect about 517 airplanes of U.S. registry.

The modification that is required by AD 2001-16-14 and retained in this proposed AD takes about 7 work hours per airplane, at an average labor rate of $65 per work hour. The cost of required parts is negligible. Based on these figures, the estimated cost of the currently required modification for U.S. operators is $235,235, or $455 per airplane.

The functional test that is required by AD 2001-16-14 and retained in this proposed AD takes about 1 work hour per airplane, at an average labor rate of $65 per work hour. Based on these figures, the cost impact of the currently required functional test for U.S. operators is $33,605, or $65 per airplane, per test cycle.

For airplanes that have not been modified in accordance with AD 2001-16-14: The new proposed modification (including the new placard installation) would take about 17 work hours per airplane, at an average labor rate of $65 per work hour. Required parts would cost about $5,130 per airplane. Based on these figures, the estimated cost of the new modification specified in this proposed AD is $6,235 per airplane.

For airplanes that have been modified in accordance with AD 2001-16-14: The new proposed modification (including the new placard installation) would take about 21 work hours per airplane, at an average labor rate of $65 per work hour. Required parts would cost about $5,130 per airplane. Based on these figures, the estimated cost of the new modification specified in this proposed AD is $6,495 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12383 (66 FR 42939, August 16, 2001), and adding the following new airworthiness directive (AD):

Airbus: Docket No. FAA-2004-19863; Directorate Identifier 2003-NM-29-AD.

Comments Due Date

(a) The Federal Aviation Administration must receive comments on this AD action by August 15, 2005.

Affected ADs

(b) This AD supersedes AD 2001-16-14, amendment 39-12383 (66 FR 42939, August 16, 2001).

Applicability

(c) This AD applies to Airbus Model A319-100, A320-200, and A321-100 and -200 series airplanes; certificated in any category; equipped with telescopic girt bars of the escape slide/raft assembly installed per Airbus Modification 20234, or Airbus Service Bulletin A320-25-1055 or A320-25-1218 in service; except those airplanes with Airbus Modification 31708.

Unsafe Condition

(d) This AD was prompted by development of a new, improved modification of the telescopic girt bar of the escape slide/raft assembly. We are issuing this AD to prevent failure of the escape slide/raft to deploy correctly, which could result in the slide being unusable during an emergency evacuation and consequent injury to passengers or airplane crewmembers.

Compliance

(e) You are responsible for having the actions required by this AD performed within the compliance times specified, unless the actions have already been done.

Restatement of Requirements of AD 2001-16-14

Modification/Follow-On Actions

(f) For airplanes listed in Airbus Industrie All Operators Telex A320-52A1111, Revision 01, dated July 23, 2001: Within 1,500 flight hours after August 31, 2001 (the effective date of AD 2001-16-14); except as provided by paragraph (h) of this AD, modify the telescopic girt bar of the escape slide/raft assembly installed on all passenger and crew doors and do a functional test to ensure the girt bar does not retract, per Airbus Industrie AOT A320-52A1111, Revision 01, dated July 23, 2001.

(1) If the girt bar retracts, before further flight, replace any discrepant parts and do another functional test to ensure the girt bar does not retract, per the AOT. Repeat the functional test thereafter at intervals not to exceed 18 months until paragraph (g) of this AD is accomplished.

(2) If the girt bar does not retract, repeat the functional test thereafter at intervals not to exceed 18 months.

Note 1: Modification and follow-on actions accomplished prior to the effective date of this AD per Airbus Industrie AOT A320-52A1111, dated July 5, 2001, are considered acceptable for compliance with the applicable actions specified in this amendment.

New Requirements of This AD

Modification

(g) Within 20 months after the effective date of this AD: Accomplish the actions specified in paragraphs (g)(1) and (g)(2) of this AD by doing all the applicable actions specified in the Accomplishment Instructions of Airbus Service Bulletin A320-52-1112, Revision 05, dated June 25, 2004. Accomplishing these actions terminates the repetitive functional tests required by paragraph (f) of this AD.

(1) Modify the telescopic girt bar of the escape slide/raft assembly.

(2) Install a placard on each modified girt bar.

(h) For airplanes on which the modification of the telescopic girt bar required by paragraph (g)(1) of this AD is accomplished within the compliance time specified in paragraph (f) of this AD, accomplishing the modification required by paragraph (f) is not required.

Modifications Accomplished According to Previous Issues of Service Bulletin

(i) Modification of the telescopic girt bar accomplished before the effective date of this AD in accordance with Airbus Service Bulletin A320-52-1112, dated January 16, 2002; Revision 01, dated April 3, 2002; Revision 02, dated September 6, 2002; Revision 03, dated June 27, 2003; or Revision 04, dated November 12, 2003; is considered acceptable for compliance with the modification of the telescopic girt bar required by paragraph (g)(1) of this AD.

Parts Installation

(j) As of the effective date of this AD, no person may install on any airplane a telescopic girt bar of the escape slide/raft assembly unless it has been modified as required by paragraph (g) of this AD.

Alternative Methods of Compliance (AMOCs)

(k)(1) The Manager, International Branch, Transport Airplane Directorate, ANM-116, FAA, has the authority to approve alternative methods of compliance (AMOCs) for this AD, if requested in accordance with the procedures found in 14 CFR 39.19.

(2) AMOCs approved previously in accordance with AD 2001-16-14, amendment 39-12383, are approved as AMOCs with paragraph (f) of this AD.

Related Information

(l) French airworthiness directives 2002-637(B) R1, dated April 16, 2003, and F-2005-057, dated April 13, 2005, also address the subject of this AD.

Issued in Renton, Washington, on July 14, 2005.
Ali Bahrami,
Manager, Transport Airplane Directorate, Aircraft Certification Service.

[FR Doc. 05-14394 Filed 7-20-05; 8:45 am]

BILLING CODE 4910-13-P